FEDERAL MARITIME COMMISSION

[Docket No. 03-05]

Monarch Shipping Agency, LLC, Monarch Shipping Lines, Inc., and American Lines, LLC v. Logistec Connecticut, Inc., Logistec USA, Inc., Coastline Terminals of Connecticut, Inc., and American Stevedoring, Inc.; Notice of Filing of Complaint and Assignment

Notice is given that a complaint has been filed with the Federal Maritime Commission (“Commission”) by Monarch Shipping Agency, LLC, Monarch Shipping Lines, Inc., and American Lines, LLC (“Complainants”) against Logistec Connecticut, Inc., Logistec USA, Inc., Coastline Terminals of Connecticut, Inc., and American Stevedoring, Inc. (“Respondents”). Complainants contend that Respondents violated sections 10(b)(9), 10(b)(10), 10(d)(1), 10(d)(2), 10(d)(3) and 13(c) of the Shipping Act by engaging in certain activities. Specifically, Complainants allege that Respondents violated the Shipping Act by cancelling a contract and locking Complainants and its customers out of Respondents' terminal facilities; by failing to establish and observe reasonable regulations relating to the receipt, handling and storage of property by providing inadequate security which resulted in loss and damage to vehicles and equipment; by an arrangement that resulted in an unlawful boycott and unreasonable discrimination in the provision of terminal services due to Complainants being locked out of certain facilities in Brooklyn, New York; and by failing to deal or negotiate with Complainants to resolve their disputes. Complainants seek various orders prohibiting Respondents from violating the Shipping Act and reparations in the amount of $10,000,000 plus interest, attorney fees and such further order or orders as the Commission determines to be proper.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by June 8, 2004, and the final decision of the Commission shall be issued by October 6, 2004.

Bryant L. VanBrakle,
Secretary.

[FR Doc. 03-14804 Filed 6-10-03; 8:45 am]

BILLING CODE 6730-01-P